DEPARTMENT OF DEFENSE

Department of the Air Force

[Docket ID USAF-2020-HQ-0004]

Submission for OMB Review; Comment Request

AGENCY: Department of the Air Force, Department of Defense (DoD).

ACTION: 30-Day information collection notice.

SUMMARY: The DoD has submitted to OMB for clearance the following proposal for collection of information under the provisions of the Paperwork Reduction Act.

DATES: Consideration will be given to all comments received by August 17, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Automated Civil Engineer System (ACES) Electronic Records; OMB Control Number 0701-ACES.

Type of Request: New Collection.

Number of Respondents:

Electronic Form (eForm): 862.

Face-to-Face Interview: 719.

Total Number of Respondents: 1,581.

Responses per Respondent:

eForm: 1.

Face-to-Face Interview: 1.

Annual Responses:

eForm: 862.

Face-to-Face Interview: 719.

Total Annual Responses: 1,581.

Average Burden per Response:

eForm: 0.03 hours.

Face-to-Face Interview: 0.17 hours.

Total Average Burden per Response: 0.20 hours.

Annual Burden Hours:

eForm: 25.86 hours.

Face-to-Face Interview: 122.23 hours.

Total Annual Burden Hours: 148.09 hours.

Needs and Uses: Information is required for five categories of respondents (ACES Unit Account Manager, ACES User, Civil Engineer (CE) Personnel supporting facility maintenance, warfighters, and Facility Managers). For ACES Unit Account Managers, PII data is required to establish roles for individuals to manage their unit's accounts. For ACES Users, PII data is required to establish accounts. For CE Personnel, PII data is required to identify CE Personnel for assignments to cost centers for the purpose of work order labor reporting and the calculations of shop rates. For warfighters, PII data is critical to ensure all warfighters are prepared for deployment. ACES is the authoritative source for Chemical, Biological, Radiological, Nuclear (CBRN) and Combat Arms training. For Facilities Managers, PII data is required for work orders and after hour emergencies.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: July 13, 2020.
Aaron T. Siegel,
Alternate OSD Federal Register Liaison Officer, Department of Defense.

[FR Doc. 2020-15526 Filed 7-16-20; 8:45 am]

BILLING CODE 5001-06-P